DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Canadian National Railway [Waiver Petition Docket Number FRA-2004-19512]

The Canadian National Railway (CN) seeks a waiver of compliance from certain provisions of 49 CFR part 232, Brake System Safety Standards for Freight and Other Non-Passenger Trains and Equipment. Specifically, CN wants relief from the requirements of § 232.215, Transfer Train Brake Tests, for train movements to and from their yard at Flat Rock, Michigan, to the Ford Motor Company's Woodhaven Stamping Plant (Fordhaven) in Woodhaven, Michigan.

The transfer of cars from the Flat Rock Yard to Fordhaven is a maximum distance of 3.32 miles. The return movement is a maximum distance of 1.27 miles. Each day, there are typically two transfer moves from the Flat Rock Yard to Fordhaven and two return moves. The average train consist of 35 to 40 hi-cube boxcars. Cars going to Fordhaven contain empty parts racks, approx. 56 tons per car. Cars leaving Fordhaven contain loads of automotive body parts, approx. 73 to 96 tons per car. This transfer movement travels over one public grade crossing at Van Horn Road. CN states that rail traffic movements across this roadway is moderate and often includes switching movements without trainline air.

CN contends that they have been making these transfer movements at this location without any air brake tests for the past 37 years, based on their belief that there was already an existing waiver in place granting them the authority to make such a move. However, CN has not been able to secure any documentation to support such a waiver exists. CN is only aware of only two occasions where FRA issued citations for failure to perform an air brake test for these transfer moves, one in 1982 and again in 2004.

CN states that this waiver is necessary to ensure the ability to provide timely service to the Ford Motor Company, so that production at the plant is not shut down.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-19512) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on December 13, 2004.
Grady C. Cothen, Jr.,
Acting Associate Administrator for Safety.

[FR Doc. 04-27900 Filed 12-20-04; 8:45 am]

BILLING CODE 4910-06-P